DEPARTMENT OF THE INTERIOR

Bureau of Indian Affairs

Notice of Availability of Draft Environmental Impact Statement for the Proposed Wanapa Energy Center, Umatilla County, OR

AGENCY: Bureau of Indian Affairs, Interior.

ACTION: Notice.

SUMMARY: This notice advises the public that the Bureau of Indian Affairs (BIA), with the cooperation of the Bonneville Power Administration (BPA) and the Confederated Tribes of the Umatilla Indian Reservation (CTUIR), intends to file a draft Environmental Impact Statement (DEIS) with the U.S. Environmental Protection Agency for the proposed Wanapa Energy Center, Umatilla County, Oregon, and that the DEIS is now available for public review. The purpose of the proposed project is to help provide for the economic development of the CTUIR and for the power needs of the Pacific Northwest. This notice also announces public hearings for the public to provide comments on the DEIS.

DATES: Written comments on the DEIS must arrive by December 29, 2003. Public hearings on the DEIS will be held December 3 and December 4, 2003, starting at 7 p.m.

ADDRESSES: You may hand carry written comments to the Umatilla Agency, 46807 B Street, Mission, Oregon, or mail them to Philip Sanchez, Superintendent, Bureau of Indian Affairs, Umatilla Agency, P.O. Box 520, Pendleton, OR 97801.

The December 3, 2003, public meeting will be in Pendleton, Oregon. The December 4, 2003, public meeting will be in Hermiston, Oregon. Exact addresses for the hearings will be determined at a later date. These may be obtained from the FURTHER INFORMATION CONTACT listed below.

To obtain a copy of the DEIS, please write to Jerry Lauer, Natural Resource Officer, Division of Natural Resources Management, U.S. Department of the Interior, Bureau of Indian Affairs, Umatilla Agency, P.O. Box 520, Pendleton, Oregon 97801. Copies of the DEIS are available for public review at the Umatilla Agency on the CTUIR Reservation, Mission, Oregon; at the Pendleton Public Library, 500 SW Dorian, Pendleton, Oregon; and at the Hermiston Public Library, 238 E. Gladys Avenue, Hermiston, Oregon. Copies of the DEIS have also been sent to agencies and individuals who participated in the scoping process and to all others who have previously requested copies of the document.

FOR FURTHER INFORMATION CONTACT: Jerry Lauer, (541) 278-3790.

SUPPLEMENTARY INFORMATION: The proposed action is to lease Indian trust land upon which Diamond Wanapa ILP, CTUIR, the Eugene, OR, Water and Electric Board, the City of Hermiston, and the Port of Umatilla propose to jointly build and operate the Wanapa Energy Center, an approximately 1200 megawatt (Mw), natural gas-fired electric power generation plant that would provide electrical energy to the BPA grid system. The Center's design features two similar blocks of combined cycle, each having a nominal capacity of 600 Mw. A block would consist of (1) two combustion turbines; (2) two heat recovery steam generators (HRSG) that can be fired by auxiliary duct burners; (3) 180 foot exhaust stacks; (4) one steam turbine in a 2 by 1 configuration; and (4) associated plant equipment. The proposed project also would include a switch yard, cooling towers, storage tanks, natural gas supply pipeline, water supply pipeline, electrical power transmission line, and other related facilities. The plant would be constructed in two phases, each consisting of two gas turbines, two HRSGs, two stacks, one steam turbine, one cooling tower, three generators, and supporting facilities. The maximum plant output would be approximately 1,485 Mw.

Natural gas would be the sole fuel used for the combustion turbines and duct burners. This would be provided through a new, 9.9 mile lateral pipeline that would extend from a source in the vicinity of Stanfield, Oregon, approximately 10 miles north to the proposed project site. A new 500 kV electrical transmission line would extend from the project site to the McNary Substation on the Columbia River.

Water demand for the facility is estimated to be from 3 million gallons per day (about 2,500 acre-feet per year) at 600 Mw production to 6 million gallons per day (about 5,000 acre-feet per year) at 1200 Mw production. Pre-allocated municipal water would be obtained under the City of Hermiston's and the Port of Umatilla's allocated water supply from the Columbia River. Currently, the proposed power plant's blow-down water discharge location is the Feed Canal, approximately 5 miles south of the project site. The Feed Canal empties into Cold Springs Reservoir, approximately 1 mile downstream of the proposed discharge point. The water discharge pipeline would follow and be located with the proposed natural gas pipeline lateral to the discharge point.

In addition to the proposed action and no action, alternatives analyzed through the DEIS include routing options for the gas supply pipeline and transmission line. They are as follows:

Gas Supply Pipeline Route Alternatives. There are two alternatives that would be approximately the same 9.9 mile length as the proposed route, but would follow a more eastern (Alternative 1-GSP) or a more western (Alternative 2-GSP) route. All three would begin at the Stanfield Compressor Station and terminate at the proposed power plant. Alternative 1-GSP is about 53,500 feet (10.13 miles) long. From the plant, the line would follow the proposed route for approximately 1.4 miles, then continue farther eastward about 2.3 miles along highway 730 before proceeding southward approximately 4.4 miles to the existing Northwest Gas Right of Way (ROW). Once co-located along this ROW, it would follow the existing line southeastward about 2 miles to the interconnect point at the Stanfield Compressor Station. This route would follow existing roads in a rural area for the majority of its length.

Alternative 2-GSP is about 53,700 feet (10.17 miles) long. From the proposed power plant, the line would follow the proposed route for approximately 1,000 feet, at which point it would proceed due west for approximately 2,000 feet. It would then proceed about 4 miles due south to the Northwest Gas ROW and follow the existing line southeastward approximately 5.6 miles to interconnect with source pipelines at the Stanfield Compressor Station.

Transmission Line Route Alternatives. In addition to the route described in the proposed action, three alternative transmission line routes from the plant site to McNary Substation are evaluated in the DEIS. These range from 3.7 to 4.0 miles in length. Alternative 1-TLR would include 21,900 feet of single-circuit and 5,800 of double-circuit line (5.25-miles combined. The route would traverse directly south from the project site, cross Highway 730, and then enter and follow the same alignment as the proposed route, parallel to the existing BPA ROWs west/ northwest and north.

Alternative 2-TLR would be a 19,400-foot (3.67-mile) long single-circuit line. It would run northwest from the project site until it neared and paralleled the bluffs above the Columbia River, then traverse southwest into the substation. This alternative would be located in an entirely new ROW. Alternative 3-TLR would be about a 20,900-foot (3.96-mile) long single-circuit line. The route would traverse west from the project site until it passed McNary Beach Access Road, proceed north to where the Alternative 2 route turns southwest, then follow the Alternative 2 route into the substation.

Public Participation

The public has participated throughout the development of this DEIS. The Notice of Intent to prepare an EIS was filed in the Federal Register on October 22, 2001 (66 FR 53430). Public scoping meetings were held in Pendleton, Oregon, on November 5, 2001, and in Hermiston, Oregon, on November 6, 2001, to identify issues and content for consideration in the EIS. On July 28, 2003, an open house was held in Hermiston, Oregon, to update the public on the EIS process for the proposed project. All comments presented throughout the process have been considered.

Public Comment Availability

Comments, including names and addresses of respondents, will be available for public review at the mailing address shown in the ADDRESSES section, during regular business hours, 7:30 a.m. to 4 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority: This notice is published in accordance with section 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: November 6, 2003.
Aurene M. Martin,
Principal Deputy Assistant Secretary—Indian Affairs.

[FR Doc. 03-28394 Filed 11-12-03; 8:45 am]

BILLING CODE 4310-W7-P